DEPARTMENT OF JUSTICE

Antitrust Division

Notice Pursuant to the National Cooperative Research and Production Act of 1993—MLCommons Association

Notice is hereby given that, on March 15, 2023, pursuant to section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, Calvin Risk, Kloten, SWITZERLAND; Radoyeh Shojaei (individual member), Davis, CA; Kurt Bollacker (individual member), Austin, TX; Sanghyun Son (individual member), Seoul, SOUTH KOREA; Colby Banbury (individual member), Boston, MA; Matthew Stewart (individual member), Cambridge, MA; Optimizing Mind Inc., Palo Alto, CA; and Untether AI, Toronto, CANADA, have been added as parties to this venture.

Also, Kalray, Montbonnot, FRANCE; Grai Matter Labs, San Jose, CA; Landing AI, Palo Alto, CA; LTech Korea, Seoul, SOUTH KOREA; and Siliconeuro, Inc., San Jose, CA, have withdrawn as parties to this venture.

No other changes have been made in either the membership or planned activity of the group research project. Membership in this group research project remains open, and MLCommons intends to file additional written notifications disclosing all changes in membership.

On September 15, 2020, MLCommons filed its original notification pursuant to section 6(a) of the Act. The Department of Justice published a notice in the Federal Register pursuant to section 6(b) of the Act on September 29, 2020 (85 FR 61032).

The last notification was filed with the Department on December 23, 2022. A notice was published in the Federal Register pursuant to section 6(b) of the Act on January 24, 2023 (88 FR 4213).

Suzanne Morris,
Deputy Director, Civil Enforcement Operations, Antitrust Division.

[FR Doc. 2023-10208 Filed 5-11-23; 8:45 am]

BILLING CODE P